DEPARTMENT OF THE INTERIOR

Bureau of Land Management

[21X.LLIDT030000.L51010000.ER0000.LVRWD2104400.241A00;4500154900]

Notice of Intent To Prepare an Environmental Impact Statement for the Proposed Lava Ridge Wind Project in Jerome, Lincoln, and Minidoka Counties, Idaho

AGENCY: Bureau of Land Management, Interior.

ACTION: Notice of intent.

SUMMARY: Consistent with the regulations implementing the National Environmental Policy Act (NEPA) and the Federal Land Policy and Management Act (FLPMA), the Bureau of Land Management (BLM) announces its intent to prepare an Environmental Impact Statement (EIS) for the proposed Lava Ridge Wind Project (Lava Ridge). This notice initiates the scoping process and temporary segregation of public lands from appropriation under the public land and mining laws. Additionally, this NOI seeks public comment and input under the National Historic Preservation Act (NHPA) and its implementing regulations.

DATES: The BLM requests comments concerning the scope of the analysis and identification of relevant information, studies, and analyses. All comments must be received by September 20, 2021. The Draft EIS is scheduled for the summer of 2022 and the Final EIS is scheduled for late 2022 with a Record of Decision issued no sooner than 30 days after the Final EIS is released. The BLM will hold public scoping meetings; the dates, locations, and times will be announced at least 15 days in advance through public notices, media releases and/or mailings.

ADDRESSES: Send written comments to: Lava Ridge Wind Energy EIS, BLM Shoshone Field Office, Attn: Kasey Prestwich, 400 West F Street, Shoshone, ID 83352. Send comments via email to BLM_ID_LavaRidge@blm.gov. Submit comments online at https://go.usa.gov/xFKxg and click on the “Participate Now” button to the right of the document link. Enter your comment and information, then click “Submit”.

FOR FURTHER INFORMATION CONTACT: Kasey Prestwich, Project Manager, BLM Shoshone Field Office, 400 West F Street, Shoshone, ID 83352, 208-732-7204, kprestwich@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION:

Purpose and Need for the Proposed Action

In Executive Order 14008, President Biden emphasized the need for the United States to “deploy the full capacity of its agencies to combat the climate crisis” in an approach that focuses attention on “innovation, commercialization, and deployment of clean energy technologies and infrastructure.” The Department of the Interior (DOI) has prioritized “identifying steps to accelerate responsible development of renewable energy on public lands and waters.”

Magic Valley Energy's, LLC (MVE) goal for Lava Ridge is to construct and operate a commercial-scale wind energy facility that reliably and economically produces wind energy for delivery to power markets in the western United States. This goal arises from regulatory, utility, and consumer-driven objectives to incorporate new renewable and carbon-free energy sources into energy supply portfolios. Substantial increases in new renewable energy are required to meet this need. Most western states have specific renewable energy goals. Based on the goals and objectives of the proponent and the BLM's authority, the BLM will evaluate the ROW grant application submitted by MVE in compliance with FLPMA, BLM regulations, and other applicable Federal laws and policies. The need for the BLM's action arises from FLPMA, which establishes a multiple use mandate for management of Federal lands, including “systems for generation, transmission, and distribution of electric energy” (FLPMA Title V). The BLM's action in considering MVE's ROW application is a delegated authority of the Secretary of the Interior to “grant issue or renew rights of way . . . for generation, transmission, and distribution of electric energy” (43 CFR part 2800).

Preliminary Proposed Action and Alternatives

As described in the plan of development (POD), MVE proposes to construct Lava Ridge which includes up to 400 wind turbines with a maximum height of up to 740 feet, up to seven new substations, a battery energy storage system, three operations and maintenance facilities and associated infrastructure. Associated infrastructure required by the project includes access roads, electric collector lines and transmission lines to interconnect the generated power to the electric grid.

The Draft EIS will analyze a reasonable range of alternatives to be fully developed after considering information provided during the scoping period. Preliminary alternatives may include changes to proposed facility layouts, activity schedules, and seasonal operation requirements designed to protect resources under BLM management while still retaining a reliable and economically feasible wind energy facility. The range of alternatives analyzed in the Draft EIS will include a no action alternative. Under the no action alternative, the BLM would deny the application, and MVE's wind energy facility described in the POD would not be built.

Summary of Expected Impacts

The Draft EIS will identify and describe the effects of the Proposed Action on the human environment. Based on a preliminary evaluation of resources, the BLM expects impacts (either beneficial or adverse and of varying intensity) to wildlife and their habitats, land uses, cultural resources, visual resources, and social and economic conditions.

Preliminary issues of concern to be analyzed in the EIS include, but are not limited to:

• Short-term or long-term loss of wildlife habitat, including greater sage-grouse, and sensitive plant species due to ground disturbance;

• Changes to visual character and scenic quality due to the development and operation of the proposed project;

• Changes in access to and the quality and quantity of recreation and grazing resources for existing users;

• Changes to social and economic conditions resulting from the development and operation of the proposed project; and

• Physical, visual, and audible disturbance to historic properties and cultural properties within and outside of the project area.

Anticipated Permits and Authorizations

In addition to the requested ROW grant, other Federal, state, and local authorizations will be required for Lava Ridge. These include authorizations under the Bald and Golden Eagle Act, Clean Water Act, 14 CFR part 77, and other laws and regulations determined to be applicable to Lava Ridge.

Schedule for the Decision-Making Process

The BLM expects to issue a decision by early 2023. It is anticipated that MVE will secure all necessary authorizations following the BLM decision.

Public Scoping Process

This NOI initiates the scoping process, which guides development of the EIS. The scoping process encourages those who may be interested or affected by Lava Ridge to submit comments on resources and issues, impact-causing factors, reasonable alternatives and potential mitigation measures to be analyzed in the EIS. For information on how to submit comments, see the ADDRESSES section above. The BLM will hold public scoping meetings; the dates, locations, and times will be announced at least 15 days in advance through public notices, media releases and/or mailings.

The BLM will use the NEPA process to satisfy the public involvement requirements of Section 106 of the National Historic Preservation Act (NHPA) (54 U.S.C. 306108) pursuant to 36 CFR 800.2(d)(3). Information about historic and cultural resources within the area potentially affected by Lava Ridge will be used to identify and evaluate impacts in the context of both NEPA and Section 106 of the NHPA. Federal agencies, Tribes, State and local governments, and other stakeholders interested in historic properties and cultural resources may request to participate in the Section 106 process as a Consulting Party. The BLM will continue consultation with Tribes on a government-to-government basis in accordance with Executive Order 13175 and other policies. Tribal concerns, including potential impacts to cultural resources and treaty rights will be given due consideration.

Request for Identification of Potential Alternatives, Information, and Analyses Relevant to the Proposed Action

The BLM requests assistance with identifying potential alternatives to the Proposed Action. As alternatives should resolve a problem with the Proposed Action, please indicate the purpose of the suggested alternative. The BLM also requests the identification of potential impacts that should be analyzed. Impacts should be a result of the action; therefore, please identify the activity along with the potential impact. Information that reviewers have that would assist in the development of alternatives or analysis of resources issues is also helpful.

Lead and Cooperating Agencies

The BLM Shoshone Field Office is the lead agency for this EIS. The following have agreed to participate in the environmental analysis of the Project as Cooperating Agencies: National Park Service, U.S. Army Corps of Engineers, the State of Idaho, Jerome, Lincoln, and Minidoka Counties in Idaho.

Decision Maker

Field Manager, Shoshone Field Office.

Nature of Decision To Be Made

The BLM will decide whether to grant, grant with conditions, or deny the application for a ROW. Pursuant to 43 CFR 2805.10, if the BLM issues a grant, the BLM decision maker may include terms, conditions, and stipulations determined to be in the public interest.

Segregation of Lands

On April 30, 2013, the BLM published a Final Rule, Segregation of Lands—Renewable Energy (78 FR 25204), that amended the regulations found in 43 CFR 2090 and 2800. The provisions of the Final Rule allow the BLM to temporarily segregate public lands within a solar or wind application area from the operation of the public land laws, including the Mining Law of 1872, by publication of a Federal Register notice. The BLM uses this temporary segregation authority to preserve its ability to approve, approve with modifications, or deny proposed ROWs, and to facilitate the orderly administration of the public lands, subject to valid existing rights. Licenses, permits, cooperative agreements, or discretionary land use authorizations of a temporary nature which would not impact lands identified in this NOI may be allowed with the approval of an authorized officer of the BLM during the segregation period. The lands segregated under this NOI are legally described as follows:

Boise Meridian, Idaho

T. 7 S., R. 17 E.,

Sec. 1, S½SW¼ and S½SE¼;

Sec. 2, SE¼SE¼;

Sec. 12, NE¼.

T. 7 S., R. 18 E.,

Sec. 6, lot 7, SE¼SW¼, and S½SE¼;

Sec. 7, lots 1 and 2, NE¼, and E½NW¼;

Sec. 8, N½ and N½SE¼;

Sec. 9, S½NE¼, NW¼, N½SW¼, and N½SE¼;

Sec. 10, SW¼NE¼, S½NW¼, and S½;

Sec. 11, NW¼SW¼, S½SW¼, and S½SE¼;

Sec. 12, S½SW¼ and S½SE¼;

Sec. 13, N½NE¼, SE¼NE¼, N½NW¼, and E½SE¼;

Sec. 14, N½NE¼, SW¼NE¼, and W½;

Sec. 15, SE¼NE¼, NE¼SE¼, and S½SE¼;

Sec. 21, SE¼SE¼;

Sec. 22, NE¼, NE¼NW¼, S½NW¼, SW¼, N½SE¼, and SW¼SE¼;

Sec. 23, NW¼NW¼, E½SW¼, and SE¼;

Sec. 24, E½NE¼, SW¼SW¼, and E½SE¼;

Sec. 25, NE¼, N½NW¼, and E½SE¼;

Sec. 26, E½, E½NW¼, and E½SW¼;

Sec. 27, W½NW¼;

Sec. 28, E½ and E½SW¼;

Sec. 33, N½NE¼ and NE¼NW¼;

Sec. 35, E½, E½NW¼, and E½SW¼.

T. 8 S., R. 18 E.,

Sec. 1, lots 1 thru 4, S½NE¼, S½NW¼, N½SW¼, and SE¼;

Sec. 2, lots 1 thru 3, S½NE¼, SE¼NW¼, SW¼, and N½SE¼;

Sec. 3, SW¼NW¼, N½SW¼, N½SE¼, and SE¼SE¼;

Sec. 4, S½NE¼ and S½NW¼;

Sec. 12, NE¼NE¼;

Sec. 24, E½NE¼ and E½SE¼.

T. 6 S., R. 19 E.,

Sec. 24, SE¼SW¼;

Sec. 25, E½ and E½NW¼.

T. 7 S., R. 19 E.,

Sec. 7, lots 7 and 8, SE¼SW¼, and SW¼SE¼;

Sec. 10, NE¼NE¼;

Sec. 11, lots 1 and 2, SW¼NE¼, N½NW¼, SE¼NW¼, and SE¼SE¼;

Sec. 12, lots 7 thru 9, SW¼SW¼, and SE¼SE¼;

Sec. 13, N½NE¼, SE¼NE¼, NE¼NW¼, NW¼SW¼, S½SW¼, NE¼SE¼, and S½SE¼;

Sec. 14, NE¼ and S½;

Sec. 15, SW¼NE¼, S½NW¼, and S½;

Sec. 17, N½, SW¼, N½SE¼, and SE¼SE¼;

Sec. 18, lots 1 thru 8, NE¼, E½NW¼, E½SW¼, N½SE¼, and SE¼SE¼;

Sec. 19, lots 1 thru 8 and NE¼NW¼;

Sec. 21, N½, N½SW¼, and SE¼;

Sec. 22, N½, N½SW¼, NE¼SE¼, and S½SE¼;

Sec. 23, N½NE¼ and W½;

Sec. 24, E½, N½NW¼, and SE¼SW¼;

Sec. 25, N½NE¼, SW¼NE¼, NW¼, N½SW¼, SW¼SW¼, and SE¼SE¼;

Sec. 26, SE¼NE¼, N½NW¼, NE¼SW¼, S½SW¼, and SE¼;

Sec. 27, N½NE¼, SW¼NE¼, SE¼NW¼, NE¼SW¼, S½SW¼, NW¼SE¼, and SE¼SE¼;

Sec. 28, S½NW¼ and SW¼;

Sec. 29, SE¼NE¼ and E½SE¼;

Sec. 30, lots 1 thru 8, E½NW¼, and E½SW¼;

Sec. 31, lots 1 thru 8, E½NW¼, and E½SW¼;

Sec. 32, E½NE¼;

Sec. 33;

Sec. 34, NE¼NE¼, S½NE¼, NW¼, and S½;

Sec. 35, N½NE¼, SW¼NE¼, W½, NE¼SE¼, and S½SE¼.

T. 8 S., R. 19 E.,

Sec. 1, lots 1, 3, and 4, SE¼NE¼, and SW¼NW¼;

Sec. 2;

Sec. 3, lots 1 thru 4, S½NE¼, S½NW¼, SW¼, N½SE¼, and SW¼SE¼;

Sec. 4, lots 1 thru 3, S½NE¼, S½SW¼, and SE¼;

Sec. 5, SW¼NW¼, NW¼SW¼, S½SW¼, and S½SE¼;

Sec. 6;

Sec. 7, lot 1, NE¼, NE¼NW¼, and E½SE¼;

Sec. 8;

Sec. 9, N½, N½SW¼, and SE¼;

Sec. 10, W½ and SW¼SE¼;

Sec. 11, NE¼, E½NW¼, E½SW¼, and NE¼SE¼;

Sec. 12, SW¼NW¼ and NW¼SW¼;

Sec. 14, SW¼NW¼;

Sec. 15, N½NE¼ and W½;

Sec. 17, N½, N½SW¼, SE¼SW¼, and SE¼;

Sec. 18, lot 4, NE¼NE¼, S½NE¼, E½SW¼, and SE¼;

Sec. 19, lots 1 thru 4, NW¼NE¼, E½NW¼, and E½SW¼;

Sec. 20, N½NE¼ and SE¼NE¼;

Sec. 21;

Sec. 22, NW¼ and S½;

Sec. 23, SW¼SW¼;

Sec. 28, NW¼NE¼ and NE¼NW¼;

Sec. 30, lots 1 thru 4, SW¼NE¼, E½NW¼, E½SW¼, and W½SE¼;

Sec. 31, lot 1, W½NE¼, and NE¼NW¼.

T. 6 S., R. 20 E.,

Sec. 21, E½SE¼;

Sec. 22, S½NE¼, NE¼NW¼, S½NW¼, N½SW¼, SW¼SW¼, and N½SE¼;

Sec. 23, S½NW¼, N½SW¼, and SE¼;

Sec. 24, S½;

Sec. 25, N½ and W½SW¼;

Sec. 26;

Sec. 27, N½, NE¼SW¼, S½SW¼, and SE¼;

Sec. 28, NE¼, NE¼NW¼, S½NW¼, and S½;

Sec. 29, S½NE¼, S½NW¼, and S½;

Sec. 30, lots 2 thru 4, SE¼NE¼, E½SW¼, and SE¼;

Sec. 31, lots 1 thru 4, NE¼NW¼, SE¼SW¼, and S½SE¼;

Secs. 32 thru 34;

Sec. 35, N½, N½SW¼, and N½SE¼.

T. 7 S., R. 20 E.,

Sec. 1, lots 3 and 4, SW¼NW¼, SW¼, and SE¼SE¼;

Sec. 2;

Sec. 3, lots 1 and 4, SE¼NE¼, SW¼NW¼, and E½SE¼;

Sec. 4, lots 1 thru 4, S½NE¼, S½NW¼, SW¼, and W½SE¼;

Sec. 5;

Sec. 7, lot 4 and SE¼SW¼;

Sec. 8, E½, E½NW¼, and E½SW¼;

Sec. 9, NW¼NE¼, S½NE¼, NW¼, and S½;

Sec. 10, E½NE¼ and SW¼SW¼;

Sec. 11, N½NE¼, SW¼NE¼, NW¼, and S½;

Sec. 12, N½, SW¼, N½SE¼, and SW¼SE¼;

Sec. 13, N½, SW¼, N½SE¼, and SW¼SE¼;

Sec. 14, N½NE¼, SW¼NE¼, and W½;

Sec. 15, NE¼NE¼, S½NE¼, W½NW¼, W½SW¼, and SE¼;

Sec. 17, NE¼, E½NW¼, and S½;

Sec. 18, lots 1 thru 4, NW¼NE¼, S½NE¼, E½NW¼, E½SW¼, and SE¼;

Secs. 19 thru 21;

Sec. 22, NE¼, NW¼NW¼, S½NW¼, and S½;

Sec. 23, N½NW¼, SW¼NW¼, and S½;

Sec. 24, W½NE¼, NW¼, and S½;

Secs. 25 and 26;

Sec. 27, NE¼, NW¼NW¼, S½NW¼, SW¼, N½SE¼, and SE¼SE¼;

Secs. 28 and 29;

Sec. 30, lots 1 and 4, NE¼, E½NW¼, E½SW¼, N½SE¼, and SW¼SE¼;

Secs. 31 thru 33;

Sec. 34, NE¼NE¼, NW¼, NW¼SW¼, S½SW¼, and S½SE¼;

Sec. 35, N½, SW¼, and W½SE¼.

T. 8 S., R. 20 E.,

Sec. 1, lot 1, SE¼NE¼, SW¼, and S½SE¼;

Secs. 2 and 3;

Sec. 4, lots 1 thru 4, S½NE¼, S½NW¼, and SW¼;

Sec. 5, lots 1 thru 4, S½NE¼, SE¼NW¼, and SE¼;

Sec. 6, lot 1, lots 3 thru 9, and lot 11, SW¼NE¼, SE¼NW¼, E½SW¼, and W½SE¼;

Sec. 7, lots 1 and 4, E½, E½NW¼, and E½SW¼;

Sec. 8, E½NE¼ and W½SW¼;

Sec. 9, W½NE¼, NW¼, and S½;

Sec. 10, E½, N½NW¼, SE¼NW¼, and E½SW¼;

Sec. 11, NE¼, E½NW¼, and S½;

Sec. 12, E½, N½NW¼, SW¼NW¼, NW¼SW¼, and S½SW¼;

Sec. 13, N½, W½SW¼, NE¼SE¼, and S½SE¼;

Secs. 14 and 15;

Sec. 17, W½NW¼, NW¼SW¼, S½SW¼, and S½SE¼;

Sec. 18, E½, E½NW¼, and NE¼SW¼;

Sec. 19, E½;

Sec. 20, W½ and SW¼SE¼;

Sec. 21, E½ and E½SW¼;

Secs. 22 and 23;

Sec. 24, N½NE¼, SE¼NE¼, W½, and E½SE¼;

Sec. 25, W½NE¼, W½, NW¼SE¼, and S½SE¼;

Sec. 26, N½NE¼, SE¼NE¼, NW¼NW¼, S½NW¼, SW¼, and E½SE¼;

Sec. 27, E½, N½NW¼, SW¼NW¼, and W½SW¼;

Sec. 28, E½ and NE¼NW¼;

Sec. 29, NW¼NE¼;

Sec. 33, E½;

Sec. 34, NE¼, NW¼NW¼, S½NW¼, and S½;

Sec. 35.

T. 9 S., R. 20 E.,

Sec. 1, lot 4 and SW¼NW¼;

Sec. 2;

Sec. 3, lots 3 and 4, S½NW¼, N½SW¼, SE¼SW¼, and S½SE¼;

Sec. 4, lots 1 and SE¼NE¼;

Sec. 10, W½NE¼ and NE¼NW¼;

Sec. 11, lot 2, N½, NE¼SW¼, and SE¼;

Sec. 12, W½NW¼, NW¼SW¼, and S½SW¼.

T. 5 S., R. 21 E.,

Sec. 27, SE¼SW¼ and SW¼SE¼;

Sec. 32, NE¼SE¼ and S½SE¼;

Sec. 33, SW¼;

Sec. 34, E½, E½NW¼, and E½SW¼;

Sec. 35, NW¼SW¼, S½SW¼, and SE¼;

Sec. 36, NW¼SW¼.

T. 6 S., R. 21 E.,

Sec. 1, lots 1 thru 3, S½NE¼, SE¼NW¼, E½SW¼, and SE¼;

Sec. 2, lot 4, SW¼NW¼, and W½SW¼;

Sec. 3, lots 1 thru 3, S½NE¼, S½NW¼, N½SW¼, SE¼SW¼, and SE¼;

Sec. 4, lots 3 and 4, S½NW¼, and S½;

Sec. 5, lots 1 and 2, S½NE¼, and E½SE¼;

Sec. 8, E½NE¼ and E½SE¼;

Sec. 9, NW¼NE¼, NW¼, and S½;

Sec. 10, NE¼ and S½;

Sec. 11, W½NW¼, NW¼SW¼, S½SW¼, and SW¼SE¼;

Sec. 12, E½, E½NW¼, and E½SW¼;

Sec. 13, N½, SW¼, N½SE¼, and SW¼SE¼;

Sec. 14, N½, N½SW¼, and N½SE¼;

Sec. 15, NE¼ and N½NW¼;

Sec. 17, NE¼, SE¼SW¼, N½SE¼, and SW¼SE¼;

Sec. 19, lots 5 thru 12, S½NE¼, and N½SE¼;

Sec. 20, W½NE¼, NW¼, and S½;

Sec. 28, N½SW¼ and SE¼;

Sec. 29, E½, E½NW¼, and NE¼SW¼;

Sec. 30, lots 2 and 3;

Sec. 35, SE¼NW¼ and NE¼SW¼.

T. 7 S., R. 21 E.,

Sec. 6, lot 7;

Sec. 7, lots 1 thru 3, E½, E½NW¼, and E½SW¼;

Sec. 8, SW¼SW¼;

Sec. 17, W½NW¼ and W½SW¼;

Sec. 18, lots 1 thru 3, E½, E½NW¼, and E½SW¼;

Sec. 19, lot 4, NE¼, SE¼SW¼, N½SE¼, and SE¼SE¼;

Sec. 20, W½NW¼, SW¼, NW¼SE¼, and S½SE¼;

Sec. 25, NE¼SW¼, S½SW¼, and SE¼;

Sec. 26, S½SE¼;

Sec. 29, N½ and W½SW¼;

Sec. 30, lots 1 and 2, E½, and E½NW¼;

Sec. 31, lots 1 thru 4, NE¼, E½SW¼, NE¼SE¼, and S½SE¼;

Sec. 32, SW¼NE¼, NW¼, and S½;

Sec. 33, S½;

Sec. 34, S½SW¼ and S½SE¼;

Sec. 35, E½ and S½SW¼.

T. 8 S., R. 21 E.,

Sec. 1, lots 1 thru 4, S½NE¼, S½SW¼, and SE¼;

Sec. 2, lots 1 thru 4, S½SW¼, and S½SE¼;

Sec. 3, lots 1 thru 4, S½NE¼, S½NW¼, SW¼, NW¼SE¼, and S½SE¼;

Sec. 4, lots 1 thru 4;

Sec. 5, lots 1 thru 4, S½NE¼, S½NW¼, E½SW¼, and SE¼;

Sec. 6, lots 1 thru 5, lot 7, SE¼NE¼, and SE¼NW¼;

Sec. 7, lots 1 thru 4, E½, E½NW¼, and SE¼SW¼;

Sec. 8, W½NE¼, W½, and W½SE¼;

Sec. 10, N½NW14 and SE¼NW¼;

Sec. 11, S½SE¼;

Sec. 12, NE¼, E½NW¼, SW¼, N½SE¼, and SE¼SE¼;

Sec. 13, E½SW¼ and SE¼;

Sec. 14, N½NE¼, SW¼NE¼, NW¼, N½SW¼, SE¼SW¼, and W½SE¼;

Sec. 15, SE¼NE¼;

Sec. 17, N½, N½SW¼, SE¼SW¼, and SE¼;

Sec. 18, lots 1 thru 4, N½NE¼, E½NW¼, and E½SW¼;

Sec. 19, lots 1 thru 4, E½NW¼, E½SW¼, and W½SE¼;

Sec. 20, NE¼ and E½SE¼;

Sec. 21, NW¼ and S½;

Sec. 22, S½NE¼ and SE¼NW¼;

Sec. 23, NE¼, NE¼NW¼, and S½NW¼;

Sec. 24, N½NE¼, SE¼NE¼, and N½NW¼;

Sec. 28, W½ and SW¼SE¼;

Sec. 29, NE¼NE¼, S½NE¼, NW¼, and E½SE¼;

Sec. 30, lots 1 thru 4, N½NE¼, SW¼NE¼, E½NW¼, E½SW¼, and W½SE¼;

Sec. 31, lots 1 thru 3, NW¼NE¼, S½NE¼, E½NW¼, E½SW¼, and SE¼;

Sec. 32, NE¼;

Sec. 33, NW¼NE¼ and N½NW¼;

T. 6 S., R. 22 E.,

Sec. 32, lots 2 thru 4, N½SW¼, and NW¼SE¼.

T. 7 S., R. 22 E.,

Sec. 3, lots 2 thru 4, SW¼NE¼, S½NW¼, SW¼, and W½SE¼;

Sec. 5, S½;

Sec. 6, lot 2, S½NE¼, and NE¼SE¼;

Sec. 8;

Sec. 9, SW¼NW¼ and W½SW¼;

Sec. 10, W½NE¼, W½, and W½SE¼;

Sec. 14, S½SW¼;

Sec. 15, W½NE¼, W½, NW¼SE¼, and S½SE¼;

Sec. 17, N½, SW¼, N½SE¼, and SW¼SE¼;

Sec. 19, SE¼SW¼ and S½SE¼;

Sec. 20, W½NE¼, W½, NW¼SE¼, and S½SE¼;

Sec. 21, E½, E½NW¼, and E½SW¼;

Sec. 22, N½NE¼, SE¼NE¼, NW¼, and E½SE¼;

Sec. 23, W½;

Sec. 26, W½;

Sec. 27, E½NE¼, W½NW¼, NW¼SW¼, S½SW¼, NE¼SE¼, and S½SE¼;

Sec. 28, E½, E½NW¼, NE¼SW¼, and S½SW¼;

Sec. 29;

Sec. 30, lots 1, 2, and 4, E½, E½NW¼, and E½SW¼;

Secs. 31 thru 33;

Sec. 34, N½, SW¼, and E½SE¼;

Sec. 35, N½NE¼ and W½.

T. 8 S., R. 22 E.,

Sec. 3, lot 4;

Secs. 4 thru 7;

Sec. 8, N½ and SW¼;

Sec. 17, W½;

Sec. 18, lots 1, 2, and 4, N½NE¼, SE¼NE¼, E½NW¼, SE¼SW¼, NE¼SE¼, and S½SE¼;

Sec. 19, lots 1 thru 4, N½NE¼, E½NW¼, and SE¼SE¼;

Sec. 20, W½.

The areas described aggregate 106,555.88 acres, according to the official plats of the surveys of the said lands, on file with the BLM.

To process the ROW application on the above lands, the BLM is segregating the land under the authority in 43 CFR 2091.3-2 and 43 CFR 2804.25(f)(1), for a period of up to two years, subject to valid existing rights. This two-year segregation period will commence on August 20, 2021. The public land involved in this closure will be segregated from appropriation under the public land and mining laws, but not the mineral leasing or material sale laws. It has been determined that this segregation is necessary for the orderly administration of the public land.

The segregation period will terminate and the land will automatically reopen to appropriation under the public land laws, including the mining laws, if one of the following events occurs: (1) Upon the issuance of a decision by the authorized officer granting, granting with modifications, or denying the application for a ROW; (2) Upon publication of a Federal Register notice terminating the segregation; or (3) Without further administrative action at the end of the segregation provided for in the Federal Register notice initiating the segregation, whichever occurs first. Any segregation made under this authority is effective for two years and may be extended by the BLM Idaho State Director for up to two years through the issuance of a Federal Register notice explaining the reasons for an extension. Segregations under 43 CFR 2804.25(f)(3) may only be extended once and the total segregation period may not exceed four years. Upon termination of segregation, all lands subject to this segregation will automatically reopen to appropriation under the public land laws.

Before including your address, phone number, email address, or other personal identifying information in your comment, you should be aware that your entire comment—including your personal identifying information—may be made publicly available at any time. While you can ask us in your comment to withhold your personal identifying information from public review, we cannot guarantee that we will be able to do so.

Authority: 42 U.S.C. 4321 et seq., 40 CFR 1501.9, 43 CFR 2091.3-2, and 43 CFR 2804.25(f).

Michael C. Courtney,
District Manager, Twin Falls District.

[FR Doc. 2021-17920 Filed 8-19-21; 8:45 am]

BILLING CODE 4310-GG-P